DEPARTMENT OF HEALTH AND HUMAN SERVICES

Substance Abuse and Mental Health Services Administration

The President's New Freedom Commission on Mental Health; Notice of Meeting

Pursuant to Executive Order 13263, notice is hereby given of a meeting of the President's New Freedom Commission on Mental Health in November 2002.

The meeting will be open and will consider how to accomplish the Commission's mandate to conduct a comprehensive study of the United States mental health service delivery system and to make recommendations on improving the delivery of public and private mental health services for adults and children. The Commission meeting will focus on housing and homelessness, among other issues.

Attendance by the public will be limited to space available. Public comments are welcome. Please communicate with the individual listed as contact below to make arrangements to comment or to request special accommodations for persons with disabilities.

Additional information and a roster of Commission members may be obtained either by accessing the Commission website, www.mentalhealthcommission.gov, or by communicating with the contact whose name and telephone number is listed below.

Committee Name: The President's New Freedom Commission on Mental Health.

Meeting Date/Time: Open: November 13, 2002, 9:45 a.m. to 4:30 p.m., Open: November 14, 2002, 9:30 a.m. to 12 Noon.

Place: Le Meridien Hotel, 465 S. La Cienega Boulevard, Los Angeles, California 90048.

FOR FURTHER INFORMATION CONTACT: Claire Heffernan, Executive Secretary, 5600 Fishers Lane, Parklawn Building, Room 13C-26, Rockville, MD 20857, Telephone: (301) 443-1545; Fax: (301) 480-1554 and e-mail: Cheffern@samhsa.gov, website: www.mentalhealthcommission.gov.

Dated: October 18, 2002.
Toian Vaughn,
Committee Management Officer, Substance Abuse and Mental Health Services Administration.

[FR Doc. 02-27049 Filed 10-23-02; 8:45 am]

BILLING CODE 4162-20-P